DEPARTMENT OF HEALTH AND HUMAN SERVICES

National Institutes of Health

National Center for Complementary & Integrative Health; Amended Notice of Meeting

Notice is hereby given of a change in the meeting of the National Advisory Council for Complementary and Integrative Health, April 17, 2026, 10:00 a.m. to April 17, 2026, 05:00 p.m., National Institutes of Health, DEM 2, 6707 Democracy Boulevard, Bethesda, MD 20892 which was published in the Federal Register on December 16, 2025, 90 FR 58257.

This amendment reflects the new end time for the NACCIH Advisory Council Meeting, with the Closed Session ending at 11:30 a.m. and the Open Session starting at 12:00 p.m. The Open Session will be broadcast to the public. The meeting is partially Closed to the public.

Dated: January 22, 2026.
Bruce A. George,
Program Analyst, Office of Federal Advisory Committee Policy.

[FR Doc. 2026-01561 Filed 1-26-26; 8:45 am]

BILLING CODE 4140-01-P